ENVIRONMENTAL PROTECTION AGENCY

[EPA-HQ-OPP-2021-0743; FRL-10537-01-OMS]

Information Collection Request Submitted to OMB for Review and Approval; Comment Request; Reporting in the FIFRA Grant Database (Renewal)

AGENCY: Environmental Protection Agency (EPA).

ACTION: Notice.

SUMMARY: The Environmental Protection Agency (EPA) has submitted the following information collection request (ICR), Reporting in the FIFRA Grant Database (EPA ICR Number 2511.03, OMB Control Number 2070-0198) to the Office of Management and Budget (OMB) for review and approval in accordance with the Paperwork Reduction Act (PRA). This is a proposed extension of the ICR, which is currently approved through December 31, 2022. Public comments were previously requested via the Federal Register on March 28, 2022 during a 60-day comment period. This notice allows for an additional 30 days for public comments. The ICR, which is summarized in this document, describes the collection activities and estimated burden and cost to the public. An agency may not conduct or sponsor and a person is not required to respond to a collection of information unless it displays a currently valid OMB control number.

DATES: Additional comments may be submitted on or before January 26, 2023.

ADDRESSES: For submissions to EPA: Submit your comments, referencing Docket ID No. EPA-HQ-OPP-2021-0743, using https://www.regulations.gov. For additional delivery options and information about EPA's dockets visit https://www.epa.gov/dockets. EPA's policy is that all comments received will be included in the public docket without change, including any personal information provided, unless the comment includes profanity, threats, information claimed to be Confidential Business Information (CBI), or other information whose disclosure is restricted by statute.

For submissions to OMB: Submit comments and recommendations using https://www.reginfo.gov/public/do/PRAMain. Find this particular information collection by selecting “Currently under 30-day Review—Open for Public Comments” or by using the search function.

FOR FURTHER INFORMATION CONTACT: Carolyn Siu, Regulatory Support Branch (7602M), Office of Chemical Safety and Pollution Prevention, Environmental Protection Agency, 1200 Pennsylvania Ave. NW, Washington, DC 20460; telephone number: (202) 566-1205; email address: siu.carolyn@epa.gov.

SUPPLEMENTARY INFORMATION: Supporting documents that explain in detail the information EPA will be collecting are available in the docket for this ICR. The docket can be viewed online at https://www.regulations.gov or in person at the EPA Docket Center, WJC West, Room 3334, 1301 Constitution Ave. NW, Washington, DC. The telephone number for the Docket Center is 202-566-1744. Additional information about visiting EPA's dockets is available at https://www.epa.gov/dockets.

Abstract: This ICR describes the burden activities for the electronic collection of information for the pre-award burden activity for creating a work plan and the post-award and after-the-grant award activities related to reporting accomplishments to implement EPA's Federal Insecticide Fungicide and Rodenticide Act (FIFRA) State and Tribal Assistance Grant (STAG) program (7 U.S.C. 136u).

In 2019, a workgroup comprised of EPA, state, and tribal representatives converted the FIFRA Work Plan and Report Template (FIFRA Template), which was in Excel, into a pilot program of a web-based system housed in the Central Data Exchange (CDX) platform, called the FIFRA Grant Database (FGD). When the permanent use of the pilot program is approved by OMB, then the use of the FGD will become mandatory, replacing the excel web-based system entirely.

This ICR augments the ICR entitled “EPA's General Regulation for Assistance Programs ICR” (OMB Control No. 2030-0020; EPA ICR No. 0938.18) which accounts for the current PRA burden for the minimum management requirements for all recipients of EPA grants or cooperative agreements (assistance agreements).

This ICR provides the burden assessment for the FIFRA program specific activities associated with using a standardized online template for only the STAG program reporting.

Form Numbers: EPA Form 5700-33H.

Respondents/affected entities: State, local governments, Indian tribes, and U.S. territories that are grantees of Federal funds participating in the FIFRA STAG program.

Respondent's obligation to respond: Mandatory, as per 40 CFR parts 30 and 31.

Estimated number of respondents: 81 (total).

Frequency of response: Biannually (mid-year and end of year reporting).

Total estimated responses: 162 (per year).

Total estimated burden: 26,195 hours (per year). Burden is defined at 5 CFR 1320.3(b).

Total estimated costs: $2,102,179 (per year), which includes an estimated cost of $0 for capital investment or maintenance and operational costs.

Changes in the estimates: There is no change in total estimated burden compared with the ICR currently approved by OMB.

Courtney Kerwin,
Director, Regulatory Support Division.

[FR Doc. 2022-28058 Filed 12-23-22; 8:45 am]

BILLING CODE 6560-50-P